DEPARTMENT OF TRANSPORTATION

Federal Motor Carrier Safety Administration

[Docket No. FMCSA-2011-0124]

Qualification of Drivers; Exemption Applications; Vision

AGENCY: Federal Motor Carrier Safety Administration (FMCSA), DOT.

ACTION: Notice of applications for exemptions; request for comments.

SUMMARY: FMCSA announces receipt of applications from 13 individuals for exemption from the vision requirement in the Federal Motor Carrier Safety Regulations. If granted, the exemptions would enable these individuals to qualify as drivers of commercial motor vehicles (CMVs) in interstate commerce without meeting the Federal vision standard.

DATES: Comments must be received on or before July 11, 2011.

ADDRESSES: You may submit comments bearing the Federal Docket Management System (FDMS) Docket No. FMCSA-2011-0124 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 13 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Eleazar R. Balli

Mr. Balli, age 49, has had retinal scarring in his left eye due to a traumatic injury since childhood. The visual acuity in his right eye is 20/20 and in the left eye, 20/70. Following an examination in 2011, his optometrist noted, “In my medical opinion, Mr. Balli has sufficient vision to perform driving tasks required to operate a commercial vehicle.” Mr. Balli reported that he has driven tractor-trailer combinations for 4 years, accumulating 52,000 miles. He holds a Class A Commercial Drivers License (CDL) from Texas. His driving record for the last 3 years shows no crashes and no convictions for moving violations in a CMV.

James J. Doan

Mr. Doan, 41, has had optic nerve hypoplasia in his right eye since childhood. The visual acuity in his right eye is hand motion vision and in the left eye, 20/20. Following an examination in 2011, his ophthalmologist noted, “It is my medical opinion, that I find no reason from an ocular standpoint why he cannot continue to drive commercial vehicles.” Mr. Doan reported that he has driven straight trucks for 22 years, accumulating 4.4 million miles and tractor-trailer combinations for 22 years, accumulating 330,000 miles. He holds a Class A CDL from Pennsylvania. His driving record for the last 3 years shows no crashes and no convictions for moving violations in a CMV.

James A. Ellis

Mr. Ellis, 54, has had cataract in his left eye since birth. The best corrected visual acuity in his right eye is 20/20 and in his left eye is 20/200. Following an examination in 2011, his optometrist noted, “He has sufficient vision to drive a commercial vehicle.” Mr. Ellis reported that he has driven straight trucks for 36 years, accumulating 72,000 miles and tractor-trailer combinations for 34 years, accumulating 3 million miles. He holds a Class A CDL from New York. His driving record for the last 3 years shows no crashes and no convictions for moving violations in a CMV.

Allen M. Gamber

Mr. Gamber, 62, has had complete loss of vision in his left eye due to a retinal vein occlusion since 2000. The visual acuity in his right eye is 20/25. Following an examination in 2011, his ophthalmologist noted, “Mr. Gamber has sufficient vision to perform the driving tasks required to operate a commercial vehicle.” Mr. Gamber reported that he has driven straight trucks for 43 years, accumulating 1.3 million miles. He holds a Class B CDL from Missouri. His driving record for the last 3 years shows no crashes and no convictions for moving violations in a CMV.

Michael R. Gartin

Mr. Gartin, 47, has had strabismic amblyopia in his right eye since childhood. The best corrected visual acuity in his right eye is 20/200 and in the left eye, 20/15. Following an examination in 2010, his optometrist noted, “From these results, I believe Mr. Gartin does have sufficient visual acuity, visual field, and color discrimination to continue to safely operate a commercial vehicle.” Mr. Gartin reported that he has driven tractor-trailer combinations for 25 years, accumulating 2.5 million miles. He holds a Class A CDL from Kentucky. His driving record for the last 3 years shows no crashes and no convictions for moving violations in a CMV.

Dale L. Giardine

Mr. Giardine, 50, has had amblyopia in his right eye since childhood. The best corrected visual acuity in his right eye is 20/200 and in the left eye, 20/25. Following an examination in 2010, his optometrist noted, “I believe he has sufficient vision and field of vision to operate this vehicle for work.” Mr. Giardine reported that he has driven straight trucks for 26 years, accumulating 62,400 miles. He holds a Class C operator's license from Pennsylvania. His driving record for the last 3 years shows no crashes and no convictions for moving violations in a CMV.

Benjamin C. Hall

Mr. Hall, 62, has had complete loss of vision in his left eye due to trauma since 2001. The visual acuity in his right eye is 20/20. Following an examination in 2011, his optometrist noted, “Mr. Hall, in my medical opinion has sufficient vision to perform the driving tasks to operate a commercial vehicle”. Mr. Hall reported that he has driven straight trucks for 12½ years, accumulating 337,500 miles. He holds a Class C operator's license from California. His driving record for the last 3 years shows no crashes and no convictions for moving violations in a CMV.

Richard A. McGuire

Mr. McGuire, 47, has had histoplasmosis in his right eye since 1997. The best corrected visual acuity in his right eye is 20/70 and in the left eye, 20/20. Following an examination in 2011, his ophthalmologist noted, “In my medical opinion, he has sufficient vision to perform the driving tasks required to operate a commercial vehicle.” Mr. McGuire reported that he has driven tractor-trailer combinations for 26 years, accumulating 2 million miles. He holds a Class A CDL from Kentucky. His driving record for the last 3 years shows no crashes and no convictions for moving violations in a CMV.

Dennis L. Morgan

Mr. Morgan, 47, has had amblyopia in his right eye since childhood. The best corrected visual acuity in his right eye is 20/400 and in the left eye, 20/25. Following an examination in 2010, his optometrist noted, “I, Dr. Benjamin L. Waldo, O.D. certify that I have the medical opinion that Mr. Morgan has sufficient vision to perform tasks required to operate a commercial vehicle.” Mr. Morgan reported that he has driven straight trucks for 10 weeks, accumulating 15,000 miles and tractor-trailer combinations for 4 years, accumulating 300,000 miles. He holds a Class A CDL from Washington. His driving record for the last 3 years shows no crashes and no convictions for moving violations in a CMV.

Timothy A. Newberry

Mr. Newberry, 52, has had amblyopia in his left eye since childhood. The best corrected visual acuity in his right eye is 20/20 and in his left eye, 20/100. Following an examination in 2010, his optometrist noted, “Patient has sufficient vision to operate commercial vehicle”. Mr. Newberry reported that he has driven straight trucks for 23 years, accumulating 230,000 miles. He holds a Class A CDL from Ohio. His driving record for the last 3 years shows one crash, for which he was cited, and no convictions for moving violations in a CMV.

Neville E. Owens

Mr. Owens, 44, has loss of vision in his left eye due to a traumatic injury sustained as a child. The best corrected visual acuity in his right eye is 20/15 and in the left eye, 20/200. Following an examination in 2010, his optometrist noted, “It is my opinion that Mr. Owens has excellent vision in spite of limitations in the left eye. He has an excellent driving record even with his CDL privileges.” Mr. Owens reported that he has driven straight trucks for 19 years, accumulating 190,000 miles and tractor-trailer combinations for 15 years, accumulating 75,000 miles. He holds a Class A CDL from North Carolina. His driving record for the last 3 years shows no crashes and no convictions for moving violations in a CMV.

Peter M. Shirk

Mr. Shirk, 28, has had exotropia in his right eye due to a traumatic injury that occurred in 2003. The best corrected visual acuity in his right eye is light perception and in the left eye, 20/20. Following an examination in 2011, his optometrist noted, “In my opinion and based on the reported clean driving record, Peter seems to have sufficient visual field and visual acuity to operate a commercial vehicle.” Mr. Shirk reported that he has driven straight trucks for 6 years, accumulating 150,000 miles. He holds a Class A CDL from Pennsylvania. His driving record for the last 3 years shows no crashes and no convictions for moving violations in a CMV.

Thomas C. Stromwall

Mr. Stromwall, 51, has aphakia and amblyopia in his left eye due to cataract surgery at age 5. The best corrected visual acuity in his right eye is 20/20 and in his left eye hand motion vision. Following an examination in 2011, his optometrist noted, “It is my opinion that Mr. Stromwall has sufficient vision to safely perform the tasks required to operate a commercial motor vehicle.” Mr. Stromwall reported that he has driven straight trucks for 33 years, accumulating 165,000 miles and tractor-trailer combinations for 33 years, accumulating 2.5 million miles. He holds a Class A CDL from Minnesota. His driving record for the last 3 years shows no crashes and no convictions for moving violations in a CMV.

Request for Comments

In accordance with 49 U.S.C. 31136(e) and 31315, FMCSA requests public comment from all interested persons on the exemption petitions described in this notice. The Agency will consider all comments received before the close of business July 11, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: June 2, 2011.
Larry W. Minor,
Associate Administrator for Policy.

[FR Doc. 2011-14460 Filed 6-9-11; 8:45 am]

BILLING CODE 4910-EX-P